DEPARTMENT OF TRANSPORTATION

Pipeline and Hazardous Materials Safety Administration

[Docket No. PHMSA-98-4470]

Pipeline Safety: Meetings of the Technical Pipeline Safety Standards Committee and the Technical Hazardous Liquid Pipeline Safety Standards Committee

AGENCY: Pipeline and Hazardous Materials Safety Administration (PHMSA), U.S. Department of Transportation (DOT).

ACTION: Notice of meeting and public workshop.

SUMMARY: This notice announces public meetings of PHMSA's Technical Pipeline Safety Standards Advisory Committee (TPSSC) and Technical Hazardous Liquid Pipeline Safety Standards Committee (THLPSSC). The committees will discuss regulatory issues independently and in joint session. Each committee will vote on one regulatory proposal. The THLPSSC will vote on a proposal to extend pipeline safety regulations to the unregulated hazardous liquid gathering lines and low-stress pipelines. The TPSSC will vote on a proposal to relax regulatory requirements governing public awareness programs conducted by operators of master meter systems and certain operators of petroleum gas systems. PHMSA will also conduct a public workshop to discuss the possible use of special permits to allow variance from the seven-year reassessment interval required as part of a gas transmission integrity management program.

DATES: The meetings will be on Wednesday, April 25 and Thursday, April 26, 2007, from 8:30 a.m. to 5 p.m. EST.

ADDRESSES: The committees will meet at the Washington Marriott, 1221 22nd Street, NW., Washington, DC 20037. The phone number for reservations at the hotel is 202-872-1500. Attendees staying at the hotel must make reservations as soon as possible.

FOR FURTHER INFORMATION CONTACT: For additional information regarding this meeting contact Cheryl Whetsel at (202) 366-4431, or by e-mail at cheryl.whetsel@dot.gov.

SUPPLEMENTARY INFORMATION:

I. Meeting Details

Members of the public may attend the meetings. Lodging is available at the Washington Marriott, 1221 22nd Street, NW., Washington, DC 20037. The phone number for reservations is 202-872-1500. The hotel will give priority to the Committee members and to the State Pipeline Safety Representatives for rooms blocked under “DOT Technical Advisory Committee Meetings.” PHMSA will post any additional information or changes on its Web page (http://www.phmsa.dot.gov) approximately 15 days before the meeting date.

Members of the public who want to make an oral statement should notify Cheryl Whetsel before April 18. The presiding officer at the meeting may deny any request to present an oral statement and may limit the time of any presentation.

Comments should reference Docket No. PHMSA-98-4470 and may be submitted in the following ways:

• DOT Web Site: http://dms.dot.gov. To submit comments on the DOT electronic docket site, click “Comment/Submissions,” click “Continue,” fill in the requested information, click “Continue,” enter your comment, then click “Submit.”

• Fax: 1-202-493-2251.

• Mail: Docket Management System: U.S. Department of Transportation, 400 Seventh Street, SW., Nassif Building, Room PL-401, Washington, DC 20590-0001.

• Hand Delivery: DOT Docket Management System; Room PL-401 on the plaza level of the Nassif Building, 400 Seventh Street, SW., Washington, DC between 9 a.m. and 5 p.m., Monday through Friday, except Federal holidays.

• E-Gov Web Site: http://www.regulations.gov. This site allows the public to enter comments on any Federal Register notice issued by any agency.

Instructions: Identify the docket number, PHMSA-98-4470, at the beginning of your comments. If you submit your comments by mail, submit two copies. If you wish to receive confirmation that PHMSA received your comments, include a self-addressed stamped postcard. Internet users may submit comments at http://www.regulations.gov, and may access all comments received by DOT at http://dms.dot.gov by performing a simple search for the docket number.

Note: All comments will be posted without changes or edits to http://dms.dot.gov, including any personal information provided.

Privacy Act Statement: Anyone may search the electronic form of all comments received for any of our dockets. You may review DOT's complete Privacy Act Statement in the Federal Register published on April 11, 2000 (65 FR 19477) or you may visit http://dms.dot.gov.

Information on Services for Individuals with Disabilities: For information on facilities or services for individuals with disabilities, or to request special assistance at the meeting, please contact Cheryl Whetsel at (202) 366-4431 by April 18, 2007.

II. Committee Background

The TPSSC and the THLPSSC are statutorily mandated advisory committees that advise PHMSA on proposed safety standards for gas and hazardous liquid pipelines. The TPSSC and the THLPSSC are established under section 10(a) (2) of the Federal Advisory Committee Act (Pub. L. 92-463, 5 U.S.C. App. 1) and the pipeline safety law (49 U.S.C. Chap. 601). Each committee consists of 15 members—five each representing government, industry, and the public.

The pipeline safety law requires PHMSA to seek the TPSSC's or the THLPSSC's advice on the reasonableness, cost-effectiveness, and practicability of each proposed pipeline safety standard. The pipeline safety law also requires PHMSA to submit the cost-benefit analysis and risk assessment information associated with the proposed standard to the appropriate committee. The committees evaluate the merits of the data and, when appropriate, provide recommendations on the adequacy of the analyses.

III. Preliminary Meeting Schedule

On Wednesday, April 25, the THLPSSC will discuss and vote on a proposal to extend pipeline safety regulations to the unregulated hazardous liquid gathering lines and low-stress pipelines and, if available, on a supplemental proposal PHMSA is developing. The THLPSSC discussed the proposal and potential changes needed to address the requirements of the Pipeline Integrity, Protection, Enforcement and Safety Act of 2006 (PIPES Act) at its last meeting on February 12, 2007. The committees will meet in joint session following conclusion of the THLPSSC meeting. Committees will discuss PHMSA's strategic plan and how PHMSA is including PIPES Act direction in moving forward on initiatives underway. Among the topics discussed will be underground damage prevention, including civil penalty enforcement authority; status of compliance with public awareness requirements; and development of criteria for community grants.

On Thursday, April 26, PHMSA will conduct a public meeting to discuss how to handle anticipated requests for variance from the seven-year reassessment interval required as part of a gas transmission integrity management program. The method under consideration is the use of PHMSA's authority to grant special permits allowing variance from regulatory requirements. Following conclusion of the public meeting, the TPSSC will discuss and vote on a proposal to relax regulatory requirements governing public awareness programs conducted by operators of master meter systems and certain operators of petroleum gas systems.

Authority: 49 U.S.C. 60102, 60115.

Issued in Washington, DC on March 19, 2007.
Jeffrey D. Wiese,
Acting Associate Administrator for Pipeline Safety.

[FR Doc. E7-5407 Filed 3-22-07; 8:45 am]

BILLING CODE 4910-60-P